DEPARTMENT OF THE INTERIOR

Fish and Wildlife Service

Notice of Availability of the Draft Restoration Plan and Environmental Assessment for the Lone Mountain Processing, Inc.; Coal Slurry Spill Natural Resource Damage Assessment in Lee County, VA

AGENCY: Fish and Wildlife Service, Department of the Interior.

ACTION: Notice of availability.

SUMMARY: The U.S. Fish and Wildlife Service (Service), on behalf of the Department of the Interior (DOI), announces the release for public review of the Draft Restoration Plan and Environmental Assessment (RP/EA) for the Lone Mountain Processing, Inc. (LMPI) Coal Slurry Spill Natural Resource Damage Assessment in Lee County, Virginia. The RP/EA describes the trustee's proposal to restore natural resources injured as a result of a release of hazardous substances.

DATES: Written comments must be submitted on or before March 15, 2002.

ADDRESSES: Requests for copies of the RP/EA may be made to: U.S. Fish and Wildlife Service, Virginia Field Office, 6669 Short Lane, Gloucester, Virginia 23061. Written comments or materials regarding the Restoration and Compensation Determination Plan should be sent to the same address.

FOR FURTHER INFORMATION CONTACT: John Schmerfeld, U.S. Fish and Wildlife Service, 6669 Short Lane, Gloucester, Virginia 23061. Interested parties may also call 804-693-6694, extension 107, for further information.

SUPPLEMENTARY INFORMATION: On October 24, 1996, a failure in a coal slurry impoundment associated with a coal processing plant owned by LMPI in Lee County, Virginia, resulted in the release of six million gallons of coal slurry to the Powell River watershed. The spill occurred when subsidence in the coal slurry impoundment caused the coal slurry to enter a system of abandoned underground coal mine-works. The coal slurry exited through a mine-works surface portal at Gin Creek, causing the release of the coal slurry into a series of tributaries to the Powell River. “Blackwater,” a mix of water, coal fines, and clay, and associated contaminants, extended far downstream. The coal slurry spill impacted fish, endangered freshwater mussels, other benthic organisms, supporting aquatic habitat, and designated critical habitat for two federally listed fish. Federally listed bats and migratory birds may have also been affected acutely due to a loss of a food supply, and chronically due to possible accumulation of contaminants through the food chain.

Under the authority of the Comprehensive Environmental Response, Compensation, and Liability Act (CERCLA) of 1980 as amended, 42 U.S.C. 9601 et. seq., “natural resource trustees may assess damages to natural resources resulting from a discharge of oil or a release of a hazardous substance * * * and may seek to recover those damages.” Natural resource damage assessments (NRDA) are separate from the cleanup actions undertaken at a hazardous waste or spill site, and provide a process whereby the natural resource trustees can determine the proper compensation to the public for injury to natural resources. The natural resource damage assessment process seeks to: (1) Determine whether injury to, or loss of, trust resources has occurred; (2) ascertain the magnitude of the injury or loss; (3) calculate the appropriate compensation for the injury, including the cost of restoration; and (4) develop a restoration plan that will restore, rehabilitate, replace, and/or acquire equivalent resources for those resources that were injured or lost. The judicial consent decree dated March 5, 2001, requires that the DOI utilize natural resource damages for reimbursement of past natural resource damage assessment costs, and restoration, replacement or acquisition of endangered and threatened fishes and mussels located in the Powell River and its watershed or restoration, replacement or acquisition of their habitats or ecosystems which support them, or restoration planning, implementation, oversight and monitoring.

The DOI is the sole acting Federal natural resource trustee for this case. The DOI has designated the Northeast Regional Director of the Service to act as its authorized official with regard to this case. This RP/EA has been developed by the Service in order to address and evaluate restoration alternatives related to natural resource injuries within the Powell River watershed. The purpose of this RP/EA is to design and evaluate possible alternatives that will restore, rehabilitate, replace, or acquire natural resources and the services provided by those resources that approximate those injured as a result of the spill using funds collected as natural resource damages for injuries, pursuant to the CERCLA. This RP/EA describes the affected environment, identifies potential restoration alternatives and their plausible environmental consequences, and describes the proposed preferred alternative.

Interested members of the public are invited to review and comment on the RP/EA. Copies of the RP/EA are available for review at the Service's Virginia Field Office in Gloucester, Virginia and at the Service's Southwestern Virginia Field Office located at 330 Cummings Street, Suite A, Abingdon, Virginia 24210. Written comments will be considered and addressed in the final RP/EA.

Author: The primary author of this notice is John Schmerfeld, U.S. Fish & Wildlife Service, Virginia Field Office, 6669 Short Lane, Gloucester, Virginia 23061.

Authority: The authority for this action is the Comprehensive Environmental Response, Compensation and Liability Act (CERCLA) of 1980 as amended, commonly known as Superfund (42 U.S.C. 9601 et seq.), and the Natural Resource Damage Assessment Regulations found at 43 CFR part 11.

Dated: January 17, 2003.
Mamie A. Parker,
Regional Director, Region 5, Fish and Wildlife Service, Department of the Interior, Designated Authorized Official.

[FR Doc. 03-2649 Filed 2-4-03; 8:45 am]

BILLING CODE 4310-55-P